DEPARTMENT OF THE INTERIOR

National Park Service

[NPS-WASO-NAGPRA-NPS0036141; PPWOCRADN0-PCU00RP14.R50000]

Notice of Inventory Completion Amendment: Robert S. Peabody Institute of Archaeology, Andover, MA

AGENCY: National Park Service, Interior.

ACTION: Notice; amendment.

SUMMARY: In accordance with the Native American Graves Protection and Repatriation Act (NAGPRA), the Robert S. Peabody Institute of Archaeology has amended a Notice of Inventory Completion published in the Federal Register on September 22, 2017, corrected on January 30, 2018, and corrected again on November 8, 2019. This notice amends the number of associated funerary objects in a collection removed from Middlesex County, MA.

DATES: Repatriation of the associated funerary objects in this notice may occur on or after August 7, 2023.

ADDRESSES: Ryan Wheeler, Robert S. Peabody Institute of Archaeology, 180 Main Street, Andover, MA 01810, telephone (978) 749-4490, email rwheeler@andover.edu.

SUPPLEMENTARY INFORMATION: This notice is published as part of the National Park Service's administrative responsibilities under NAGPRA. The determinations in this notice are the sole responsibility of the Robert S. Peabody Institute of Archaeology. The National Park Service is not responsible for the determinations in this notice. Additional information on the amendments and determinations in this notice, including the results of consultation, can be found in the inventory or related records held by the Robert S. Peabody Institute of Archaeology.

Amendment

This notice amends the determinations published in a Notice of Inventory Completion in the Federal Register on September 22, 2017 (82 FR 44460-44461) and corrected in notices published on January 30, 2018 (83 FR 4266-4267), and November 9, 2019 (84 FR 60442-60443). Repatriation of the items in the original Notice of Inventory Completion has not occurred. In mid-2021, the Robert S. Peabody Institute of Archaeology received a collection of artifacts from the estate of Dale Farrell that included one bifacial point from Mansion Inn site in Wayland, Middlesex County, MA. The bifacial point is an additional associated funerary object from this site.

Table of Changes—Associated Funerary Objects
Site | Original No. | Amended No. | Amended description
Mansion Inn, Wayland, Middlesex County, MA | 274 | 275 | Three adze fragments; one axe fragment; 122 bifaces and biface fragments; 18 flakes/debitage; 11 lots, flakes/debitage; one lot, calcined bone fragments; two charcoal samples; one charred nut fragment; one hammerstone; 22 worked and unworked pebbles and pebble fragments; 22 biface preform fragments; one shark tooth; one ceramic sherd; one lot, red ochre and animal bone fragments; 18 groundstone fragments; 10 fragments, fire cracked rock; one thumbnail scraper, and 39 unworked stone fragments.

Determinations (as Amended)

Pursuant to NAGPRA and its implementing regulations, and after consultation with the appropriate Indian Tribes and Native Hawaiian organizations, the Robert S. Peabody Institute of Archaeology has determined that:

• The 275 objects described in this amended notice are reasonably believed to have been placed with or near individual human remains at the time of death or later as part of the death rite or ceremony.

• There is a relationship of shared group identity that can be reasonably traced between the human remains and associated funerary objects described in this notice and the Mashpee Wampanoag Tribe, and the Wampanoag Tribe of Gay Head (Aquinnah).

Requests for Repatriation

Written requests for repatriation of the associated funerary objects in this notice must be sent to the Responsible Official identified in ADDRESSES. Requests for repatriation may be submitted by:

1. Any one or more of the Indian Tribes identified in this notice and, if joined to a request from one or more of the Indian Tribes, the Assonet Band of the Wampanoag Nation and the Nipmuc Nation, non-federally recognized Indian groups.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after August 7, 2023. If competing requests for repatriation are received, the Robert S. Peabody Institute of Archaeology must determine the most appropriate requestor prior to repatriation. Requests for joint repatriation of the associated funerary objects are considered a single request and not competing requests. The Robert S. Peabody Institute of Archaeology is responsible for sending a copy of this notice to the Indian Tribes identified in this notice.

Authority: Native American Graves Protection and Repatriation Act, 25 U.S.C. 3003, and the implementing regulations, 43 CFR 10.9, 10.10, 10.13, and 10.14.

Dated: June 28, 2023.
Melanie O'Brien,
Manager, National NAGPRA Program.

[FR Doc. 2023-14391 Filed 7-6-23; 8:45 am]

BILLING CODE 4312-52-P